DEPARTMENT OF AGRICULTURE

Food Safety and Inspection Service

9 CFR Parts 317 and 381

[Docket No. 98-005E]

Nutrition Labeling of Ground or Chopped Meat and Poultry Products and Single-Ingredient Products

AGENCY: Food Safety and Inspection Service, USDA.

ACTION: Extension of comment period.

SUMMARY: The Food Safety and Inspection Service (FSIS) is extending the comment period for the proposed rulemaking, Nutrition Labeling of Ground or Chopped Meat and Poultry Products and Single-Ingredient Products. The comment period is scheduled to close on April 18, 2001. At the request of a group of trade associations, FSIS is granting a 90-day extension to the comment period to provide the associations additional time to conduct research, gather information from their memberships, and analyze the results and responses. The proposed rule was published on January 18, 2001 (66 FR 4970).

DATES: Comments must be received on or before July 17, 2001.

ADDRESSES: Send one original and two copies of written comments to FSIS Docket No. 98-005P, Department of Agriculture, Food Safety and Inspection Service, Room 102-Annex, 300 12th Street, SW., Washington, DC 20250-3700. The request for this extension will be posted as a related document associated with the Federal Register publication on the FSIS web page at http://www.fsis.usda.gov/OPPDE/rdad/ProposedRules.htm.

FOR FURTHER INFORMATION CONTACT: Dr. Robert Post, Director, Labeling and Consumer Protection Staff, Office of Policy, Program Development, and Evaluation, Food Safety and Inspection Service, U.S. Department of Agriculture, Washington, DC 20250-3700; (202) 205-0279.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done in Washington, DC, on: April 16, 2001.
Thomas J. Billy,
Administrator.

[FR Doc. 01-9812 Filed 4-17-01; 10:42 am]

BILLING CODE 3410-DM-P